DEPARTMENT OF HOMELAND SECURITY

Coast Guard

33 CFR Part 165

[Docket No. USCG-2021-0444]

Safety Zone; Independence Day Celebration, Bridge Side Marine

AGENCY: Coast Guard, Department of Homeland Security (DHS).

ACTION: Notice of enforcement of regulation.

SUMMARY: The Coast Guard will enforce a safety zone for the Independence Day Celebration at Bridge Side Marina in Grand Isle, Louisiana, from 10 p.m. through 10:30 p.m. on Saturday, July 3, 2021. This action is needed to provide for the safety of life on navigable waterways during this event.

DATES: The regulations in 33 CFR 165.801, Table 5, line 7, will be enforced from 10 p.m. through 10:30 p.m. on July 3, 2021.

FOR FURTHER INFORMATION CONTACT: If you have questions about this notice of enforcement, call or email Commander Matthew M. Spolarich, Chief of Prevention, U.S. Coast Guard Marine Safety Unit Houma; telephone 985-850-6437, email matthew.m.spolarich@uscg.mil.

SUPPLEMENTARY INFORMATION: The Coast Guard will enforce the safety zone in 33 CFR 165.801, Table 5, line 7, for the Independence Day Celebration at Bridge Side Marina in Grand Isle, Louisiana from 10 p.m. through 10:30 p.m. This action is being taken to provide for the safety of life on navigable waterways during this event. Our regulation for marine events within the Eighth Coast Guard District requiring safety zones, § 165.801, Table 5, line 7, specifies the location of the safety zone as a 500 foot radius from the Pier located at Bridge Side Marina, 2012 LA Highway 1, Grand Isle, LA (Lat: 29°12′14″ N; Long: 090°02′28.47″ W). During the enforcement period, as reflected in § 100.801, entry into this zone is prohibited unless authorized by the Captain of the Port or a designated representative. Persons or vessels desiring to enter into or passage through the zone must request permission from the Captain of the Port or a designated representative.

In addition to this notice of enforcement in the Federal Register, the Coast Guard plans to provide notification of this enforcement period via the Local Notice to Mariners and Broadcast Notice to Mariners.

Dated: June 28, 2021.
J.W. Russell,
Captain, U.S. Coast Guard, Captain of the Port Houma.

[FR Doc. 2021-14166 Filed 7-1-21; 8:45 am]

BILLING CODE 9110-04-P